DEPARTMENT OF LABOR

Employment and Training Administration

Agency Information Collection Activities: Extension of a Currently Approved Information Collection with Non-Substantive Changes; Comment Request

ACTION: 60-day notice of information collection under review: ETA Form 232, Domestic Agricultural In-Season Wage Report, and ETA Form 232-A, Wage Survey Interview Record; OMB Control No. 1205-0017.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning forms ETA 232 and ETA 232-A Domestic Agricultural In-Season Wage Report and Wage Survey Interview Record. A copy of the proposed information collection request (ICR) can be obtained by contacting the office listed below in the addressee section of this notice.

DATES: Written comments must be submitted to the office listed in the addressee section below on or before May 7, 2010.

ADDRESSEE: William L. Carlson, Administrator, Office of Foreign Labor Certification, U.S. Department of Labor, Room C4312, 200 Constitution Ave., NW., Washington, DC 20210; by phone at (202) 693-3010 (this is not a toll-free number); by fax at (202) 693-2768; or by e-mail at ETA.OFLC.Forms@dol.gov subject line: ETA Form 232.

SUPPLEMENTARY INFORMATION:

I. Background: The information collection is required by the Wagner-Peyser Act codified at 20 CFR part 653, which cover the requirements for the acceptance and handling of intrastate and interstate job clearance orders seeking workers to perform agricultural or food processing work on a less than year round basis. Section 653.501 states, in pertinent part, that employers must assure that the “wages and working conditions are not less than the prevailing wages and working conditions among similarly employed agricultural workers in the area of intended employment or the applicable Federal or State minimum wage, whichever is higher.” Also, regulations for the temporary employment of alien agricultural workers in the United States, (20 CFR, part 655, subpart B) promulgated under section 218 of the Immigration and Nationality Act (INA) as amended, require employers to pay the workers “at least the adverse effect wage rate in effect at the time the work is performed, the prevailing hourly wage rate, or the legal federal or State minimum wage rate, whichever is highest.” The vehicle for establishing the prevailing wage rate is ETA Form 232, The Domestic Agricultural In-Season Wage Report. This Report contains the prevailing wage finding based on data collected by the States from employers in a specific crop area using the ETA Form 232-A.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions: In order to meet its statutory responsibilities under the INA, the Department needs to extend an existing collection of information pertaining to wage rates for various crop activities.

Type of Review: Extension.

Agency: Employment and Training Administration.

Title: Domestic Agricultural In-Season Wage Report and Wage Survey Interview Record.

OMB Number: 1205-0017.

Agency Number(s): ETA Form 232 and ETA Form 232-A.

Recordkeeping: On occasion.

Affected Public: Businesses or other for-profits and States, local, or tribal governments.

Total Respondents: 38,855.

Estimated Total Burden Hours: 16,301.

Total Burden Cost (capital/startup): 0.

Total Burden Cost (operating/maintaining): 0.

Comments submitted in response to this comment request will be summarized and/or included in the request for Office of Management and Budget approval of the information collection request; they will also become a matter of public record.

Signed at Washington, DC, this 2nd day of March 2010.
Jane Oates,
Assistant Secretary, Employment and Training Administration.

[FR Doc. 2010-4796 Filed 3-5-10; 8:45 am]

BILLING CODE 4510-FP-P